NATIONAL TRANSPORTATION SAFETY BOARD

Sunshine Act Meetings

TIME AND DATE: 9:30 a.m. ET, Tuesday, November 18, 2025.

PLACE: NTSB Conference Center, 429 L'Enfant Plaza SW, Washington, DC 20594.

STATUS: The one item is open to the public.

MATTERS TO BE CONSIDERED:

75114 Marine Investigation Report—Contact of Containership Dali with Francis Scott Key Bridge and Subsequent Bridge Collapse, Patapsco River, Baltimore, Maryland, March 26, 2024

CONTACT PERSON FOR MORE INFORMATION: Candi Bing at (202) 590-8384 or by email at bingc@ntsb.gov.

Media Information Contact: Jennifer Gabris by email at jennifer.gabris@ntsb.gov or at (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: Tuesday, September 30, 2025.
LaSean R. McCray,
Alternate Federal Register Liaison Officer.

[FR Doc. 2025-19300 Filed 9-30-25; 11:15 am]

BILLING CODE 7533-01-P